COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by the nonprofit agency employing persons who are blind or have other severe disabilities, and deletes products from the Procurement List previously furnished by such agencies.

DATES: Effective Date is April 16, 2017.

ADDRESS: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Additions

On 12/30/2016 (81 FR 96442-96443), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

PRODUCTS:

NSN(s)—Product Name(s):

6530-00-NIB-0209—Hot Pack, Instant, Disposable, 6″ x 8″

6530-00-NIB-0217—Cold Pack, Instant, Disposable, 5″ x 6″

6530-00-NIB-0219—Cold Pack, Instant, Disposable, 5″ x 7″

6530-00-NIB-0221—Cold Pack, Instant, Disposable, 6″ x 8.75″

6530-00-NIB-0222—Hot Pack, Instant, Disposable, 5″ x 6″

6530-00-NIB-0223—Hot Pack, Instant, Disposable, 5″ x 7″

Mandatory Source(s) of Supply: Central Association for the Blind and Visually Impaired, Utica, NY

Mandatory for: Total Government Requirement

Contracting Activity: Defense Logistics Agency Troop Support

Distribution: B-List

Deletions

On 2/10/2017 (82 FR 10337-10338), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

NSN(s)—Product Name(s):

8415-01-576-0094—Jacket, Wet Weather Level 6, PCU, Army, Men's, Desert Camouflage, XS

8415-01-576-0100—Jacket, Wet Weather Level 6, PCU, Army, Men's, Desert Camouflage, ML

8415-01-576-0104—Jacket, Wet Weather Level 6, PCU, Army, Men's, Desert Camouflage, LR

8415-01-576-0111—Jacket, Wet Weather Level 6, PCU, Army, Men's, Desert Camouflage, LL

8415-01-576-0116—Jacket, Wet Weather Level 6, PCU, Army, Men's, Desert Camouflage, XLR

8415-01-576-0122—Jacket, Wet Weather Level 6, PCU, Army, Men's, Desert Camouflage, XLL

8415-01-576-0152—Jacket, Wet Weather Level 6, PCU, Army, Men's, Desert Camouflage, XXLL

8415-01-576-0157—Jacket, Wet Weather Level 6, PCU, Army, Men's, Desert Camouflage, XXXLR

8415-01-576-0165—Jacket, Wet Weather Level 6, PCU, Army, Men's, Desert Camouflage, XXXLL

8415-01-576-0234—Jacket, Wet Weather Level 6, PCU, Army, Men's, Woodland Camouflage, XS

8415-01-576-0237—Jacket, Wet Weather Level 6, PCU, Army, Men's, Woodland Camouflage, SR

8415-01-576-0238—Jacket, Wet Weather Level 6, PCU, Army, Men's, Woodland Camouflage, MR

8415-01-576-0243—Jacket, Wet Weather Level 6, PCU, Army, Men's, Woodland Camouflage, ML

8415-01-576-1966—Jacket, Wet Weather Level 6, PCU, Army, Men's, Woodland Camouflage, LR

8415-01-576-1967—Jacket, Wet Weather Level 6, PCU, Army, Men's, Woodland Camouflage, LL

8415-01-576-1970—Jacket, Wet Weather Level 6, PCU, Army, Men's, Woodland Camouflage, XL

8415-01-576-1974—Jacket, Wet Weather Level 6, PCU, Army, Men's, Woodland Camouflage, XLL

8415-01-576-1977—Jacket, Wet Weather Level 6, PCU, Army, Men's, Woodland Camouflage, XXL

8415-01-576-1980—Jacket, Wet Weather Level 6, PCU, Army, Men's, Woodland Camouflage, XXLL

8415-01-576-1982—Jacket, Wet Weather Level 6, PCU, Army, Men's, Woodland Camouflage, XXXL

8415-01-576-1985—Jacket, Wet Weather Level 6, PCU, Army, Men's, Woodland Camouflage, XXXLL

8415-01-576-5763—Pants, Wet Weather Level 6, PCU, Army, Desert Camouflage, XS

8415-01-576-5957—Pants, Wet Weather Level 6, PCU, Army, Desert Camouflage, SR

8415-01-576-5962—Pants, Wet Weather Level 6, PCU, Army, Desert Camouflage, MR

8415-01-576-5967—Pants, Wet Weather Level 6, PCU, Army, Desert Camouflage, ML

8415-01-576-7101—Pants, Wet Weather Level 6, PCU, Army, Desert Camouflage, LR

8415-01-576-7169—Pants, Wet Weather Level 6, PCU, Army, Desert Camouflage, LL

8415-01-576-7515—Pants, Wet Weather Level 6, PCU, Army, Desert Camouflage, XL

8415-01-576-7517—Pants, Wet Weather Level 6, PCU, Army, Desert Camouflage, XLL

8415-01-576-7692—Pants, Wet Weather Level 6, PCU, Army, Desert Camouflage, XXL

8415-01-576-7695—Pants, Wet Weather Level 6, PCU, Army, Desert Camouflage, XXLL

8415-01-576-7697—Pants, Wet Weather Level 6, PCU, Army, Desert Camouflage, XXXL

8415-01-576-7714—Pants, Wet Weather Level 6, PCU, Army, Desert Camouflage, XXXLL

8415-01-576-7827—Pants, Wet Weather Level 6, PCU, Army, Woodland Camouflage, XS

8415-01-576-7845—Pants, Wet Weather Level 6, PCU, Army, Woodland Camouflage, SR

8415-01-576-8002—Pants, Wet Weather Level 6, PCU, Army, Woodland Camouflage, MR

8415-01-576-8003—Pants, Wet Weather Level 6, PCU, Army, Woodland Camouflage, ML

8415-01-576-8024—Pants, Wet Weather Level 6, PCU, Army, Woodland Camouflage, LR

8415-01-576-8026—Pants, Wet Weather Level 6, PCU, Army, Woodland Camouflage, LL

8415-01-576-8083—Pants, Wet Weather Level 6, PCU, Army, Woodland Camouflage, XL

8415-01-576-8091—Pants, Wet Weather Level 6, PCU, Army, Woodland Camouflage, XLL

8415-01-576-8101—Pants, Wet Weather Level 6, PCU, Army, Woodland Camouflage, XXL

8415-01-576-8107—Pants, Wet Weather Level 6, PCU, Army, Woodland Camouflage, XXLL

8415-01-576-8109—Pants, Wet Weather Level 6, PCU, Army, Woodland Camouflage, XXXL

8415-01-576-8114—Pants, Wet Weather Level 6, PCU, Army, Woodland Camouflage, XXLLL

8415-01-543-0375—Trousers, Lightweight ECWCS Level 6, PCU, Army, Green, XS

8415-01-543-0378—Trousers, Lightweight ECWCS Level 6, PCU, Army, Green, S

8415-01-543-0380—Trousers, Lightweight ECWCS Level 6, PCU, Army, Green, M

8415-01-543-0385—Trousers, Lightweight ECWCS Level 6, PCU, Army, Green, L-L

8415-01-543-0389—Trousers, Lightweight ECWCS Level 6, PCU, Army, Green, XL

8415-01-543-0390—Trousers, Lightweight ECWCS Level 6, PCU, Army, Green, XL-L

8415-01-543-0395—Trousers, Lightweight ECWCS Level 6, PCU, Army, Green, XXLL

8415-01-543-0398—Trousers, Lightweight ECWCS Level 6, PCU, Army, Green, XXLL

8415-01-543-0400—Trousers, Lightweight ECWCS Level 6, PCU, Army, Green, XXXL

8415-01-543-0402—Trousers, Lightweight ECWCS Level 6, PCU, Army, Green, XXXLL

8415-01-543-0416—Trousers, Lightweight Level 6, ECWCS, PCU, Army, Green, L

8415-01-543-7004—Trousers, Wet Weather Level 6 ECWCS, PCU, Army, Green, M-L

8415-01-543-0417—Jacket, Parka, Lightweight Extreme Cold Wet Weather Level 6, PCU, Army, Green, XS

8415-01-543-0421—Jacket, Parka, Lightweight Extreme Cold Wet Weather Level 6, PCU, Army, Green, S

8415-01-543-0422—Jacket, Parka, Lightweight Extreme Cold Wet Weather Level 6, PCU, Army, Green, M

8415-01-543-0424—Jacket, Parka, Lightweight Extreme Cold Wet Weather Level 6, PCU, Army, Green, L-L

8415-01-543-0428—Jacket, Parka, Lightweight Extreme Cold Wet Weather Level 6, PCU, Army, Green, L

8415-01-543-0430—Jacket, Parka, Lightweight Extreme Cold Wet Weather Level 6, PCU, Army, Green, XL-L

8415-01-543-0431—Jacket, Parka, Lightweight Extreme Cold Wet Weather Level 6, PCU, Army, Green, XL

8415-01-543-0434—Jacket, Parka, Lightweight Extreme Cold Wet Weather Level 6, PCU, Army, Green, XXLL

8415-01-543-0437—Jacket, Parka, Lightweight Extreme Cold Wet Weather Level 6, PCU, Army, Green, XXL

8415-01-543-0439—Jacket, Parka, Lightweight Extreme Cold Wet Weather Level 6, PCU, Army, Green, XXXL

8415-01-543-0440—Jacket, Parka, Lightweight Extreme Cold Wet Weather Level 6, PCU, Army, Green, XXXLL

8415-01-543-7038—Jacket, Parka, Lightweight Extreme Cold Wet Weather Level 6, PCU, Army, Green, M-L

Mandatory for: ReadyOne Industries, Inc., El Paso, TX

Contracting Activity: Army Contracting Command—Aberdeen Proving Ground, Natick Contracting Division

Amy B. Jensen,
Director, Business Operations.

[FR Doc. 2017-05363 Filed 3-16-17; 8:45 am]

BILLING CODE 6353-01-P